DEPARTMENT OF THE INTERIOR

U.S. Geological Survey

[GX15DA009DU2000]

Agency Information Collection Activities: Request for Comments on the National Ground-Water Monitoring Network Cooperative Funding Program

AGENCY: U.S. Geological Survey (USGS), Interior.

ACTION: Notice of a new information collection, National Ground-Water Monitoring Network Cooperative Funding Program.

SUMMARY: We (the U.S. Geological Survey) are notifying the public that we have submitted to the Office of Management and Budget (OMB) the information collection request (ICR) described below. To comply with the Paperwork Reduction Act of 1995 (PRA) and as part of our continuing efforts to reduce paperwork and respondent burden, we invite the general public and other Federal agencies to take this opportunity to comment on this ICR.

DATES: To ensure that your comments on this ICR are considered, OMB must receive them on or before August 20, 2015.

ADDRESSES: Please submit written comments on this information collection directly to the Office of Management and Budget (OMB), Office of Information and Regulatory Affairs, Attention: Desk Officer for the Department of the Interior, via email: (OIRA_SUBMISSION@omb.eop.gov); or by fax (202) 395-5806; and identify your submission with `OMB Control Number 1028-NEW National Ground-Water Monitoring Network Cooperative Funding Program'. Please also forward a copy of your comments and suggestions on this information collection to the Information Collection Clearance Officer, U.S. Geological Survey, 12201 Sunrise Valley Drive MS 807, Reston, VA 20192 (mail); (703) 648-7195 (fax); or gs-info_collections@usgs.gov (email). Please reference `OMB Information Collection 1028-NEW: National Ground-Water Monitoring Network Cooperative Funding Program' in all correspondence.

FOR FURTHER INFORMATION CONTACT: Daryll Pope,, U.S. Geological Survey, 3450 Princeton Pike, Suite 110, Lawrenceville, NJ 08648 (mail); 609-771-3933 (phone); or dpope@usgs.gov (email). You may also find information about this ICR at www.reginfo.gov.

SUPPLEMENTARY INFORMATION:

I. Abstract

The USGS is working with the Federal Advisory Committee on Water Information (ACWI) and its Subcommittee on Ground Water (SOGW) to develop and administer a National Ground-Water Monitoring Network (NGWMN). This network is required as part of Public Law 111-11, Subtitle F—Secure Water: Section 9507 “Water Data Enhancement by the United States Geological Survey”. The Network will consist of an aggregation of wells from existing Federal, State, Tribal, and local groundwater monitoring networks. To support data providers for the National Ground-Water Monitoring Network, the USGS will be providing funding through cooperative agreements to water-resource agencies that collect groundwater data. The USGS will be soliciting applications for funding that will request information from the Agency collecting the data. Proposals will be submitted through the www.grants.gov Web site. Elements of the proposal will include contact information (phone number and email address), and a proposal describing their existing data collection and a plan to evaluate their data for incorporation into the NGWMN. The proposal will be evaluated by the USGS and the NGWMN Program Board to appropriate funding. The proposal will describe the groundwater networks to be included in the NGWMN, the purpose of the networks, an estimate of the number of wells they would submit for the network, an overview of the methods they would use to select and classify wells for the network a description of data collection techniques, and information on their databases. The proposal would also require estimates of one-time costs to complete the above tasks and annual costs to participate in the network.

II. Data

OMB Control Number: 1028-NEW.

Title: National Ground-Water Monitoring Network Cooperative Funding Program.

Type of Request: Approval of new information collection.

Respondent Obligation: Required to obtain benefit.

Frequency of Collection: Annually.

Description of Respondents: Multistate, State, Tribal, or Local water-resource agencies who operate groundwater monitoring networks.

Estimated Total Number of Annual Responses: 100 applications, 25 reports.

Estimated Time per Response: We estimate that it will take 30 hour(s) per person to prepare the proposal. This includes time to review the NGWMN Framework Document to understand the Network design and requirements for data providers. In prior years respondents to similar projects have spent up to 125 hours to prepare the final report.

Estimated Annual Burden Hours: 3000 for applications, 3125 for reports.

Estimated Reporting and Recordkeeping “Non-Hour Cost” Burden: There are no “non-hour cost” burdens associated with this collection of information.

Public Disclosure Statement: The PRA (44 U.S.C. 3501, et seq.) provides that an agency may not conduct or sponsor and you are not required to respond to a collection of information unless it displays a currently valid OMB control number. Until the OMB approves a collection of information, you are not obliged to respond.

Comments: On 02/06/2015, we published a Federal Register notice (80 FR 6746) announcing that we would submit this ICR to OMB for approval and soliciting comments. The comment period closed on 04/07/2015. We received no comments.

III. Request for Comments

We again invite comments concerning this ICR as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that comments submitted in response to this notice are a matter of public record. Before including your personal mailing address, phone number, email address, or other personally identifiable information in your comment, you should be aware that your entire comment, including your personally identifiable information, may be made publicly available at any time. While you can ask us and OMB in your comment to withhold your personal identifying information from public review, we cannot guarantee that it will be done.

William L. Cunningham,
Chief, Office of Groundwater.

[FR Doc. 2015-17835 Filed 7-20-15; 8:45 am]

BILLING CODE 4311-AM-P